ENVIRONMENTAL PROTECTION AGENCY

[ER-FRL-6607-3]

Environmental Impact Statements; Notice of Availability

Responsible Agency: Office of Federal Activities, General Information (202) 564-7167 or www.epa.gov/oeca/ofa.

Weekly receipt of Environmental Impact Statements

Filed May 08, 2000

Through May 12, 2000 Pursuant to 40 CFR 1506.9.

EIS No. 000139, Draft EIS, NPS, CA, NV, Legislative EIS—Timbisha Shoshone Tribal Homeland, To Establish a Permanent Tribal Land Base and Related Cooperative Activities, The Transfer of Federal Land and Acquisition of Private Land, Death Valley National Park, Saline Valley, CA and Lida Ranch near Lida, NV, Due: July 19, 2000, Contact: Alan Schmierer (415) 427-1441.

EIS No. 000140, Final EIS, BLM, WY, Horse Creek Coal Lease Application (Federal Coal Lease Application WYW-141435), Implementation, Campbell and Converse Counties, WY, Due: June 19, 2000, Contact: Nancy Doelger (307) 261-7627.

EIS No. 000141, Draft EIS, AFS, Forest Service Roadless Area Conservation, Implementation, Proposal to Protect Roadless Areas, In addition, the Agency is proposing special consideration for the Tongass National Forest, Due: July 03, 2000, Contact: Scott Conroy (703) 605-5299.

EIS No. 000142, Draft EIS, FHW, NV, Reno Railroad Corridor, Implementation of the Freight Railroad Grade Separation Improvements in the Central Portion of the City of Reno, Washoe County, NV, Due: July 03, 2000, Contact: John T. Price (775) 687-1204.

EIS No. 000143, Final EIS, UAF, FL, Tyndall Air Force Base, Implementation, Proposed Conversion of Two F-15 Fighter Squadrons to F-22 Fighter Squadons, FL, Due: June 19, 2000, Contact: Herman Bell (850) 283-8572.

EIS No. 000144, Final EIS, SFW, CA, High Desert Power Project, Construction and Operation, A Combined-Cycle Natural Gas-Fueled Electrical Generation Power Planet, Approval of Incidental Take Permit Authorization under Sections 7 and 10 of the Federal ESA, San Bernardino County, CA, Due: June 19, 2000, Contact: George Walker (760) 255-8852.

EIS No. 000145, Draft Supplement, NOA, FL, Florida Keys National Marine Sanctury (FKNMS), Comprehensive Management Plan, Updated Information, Proposal to Establish a No-Take Ecological Reserve in the Tortugas Region, FL, Due: July 31, 2000, Contact: Billy D. Causey (305) 743-2437.

Amended Notices

EIS No. 000101, Draft EIS, FAA, NC, Piedmont Triad International Airport, Construction and Operation, Runway 5L/23R and New Overnight Express Air Cargo Sorting and Distribution Facility, and Associated Developments, Funding, NPDES and COE Section 404 Permit, City of Greensboro, Guilford County, NC, Due: June 07, 2000, Contact: Donna M. Meyer (404) 305-7150. Revision of FR notice published on 04/14/2000: CEQ Comment Date corrected from 05/30/2000 to 06/07/2000.

EIS No. 000135, Draft Supplement, NPS, MS, Natchez Trace Parkway, Update Information on the Construction of Section 3P13 (Old Agency Road), City of Ridgeland, Madison County, MS, Due: July 12, 2000, Contact: Wendall Simpson (601) 680-4005.

Published FR 05-12-00 Correction to Title.

Dated: May 16, 2000.
Joseph C. Montgomery,
Director, NEPA Compliance Division, Office of Federal Activities.

[FR Doc. 00-12680 Filed 5-18-00; 8:45 am]

BILLING CODE 6560-50-U